DEPARTMENT OF ENERGY

Federal Energy Regulatory Commission

[Docket No.CP03-33-000]

Wyckoff Gas Storage Company, LLC; Notice of Site Visit

March 26, 2003.

On April 15 through April 17, 2003, the Office of Energy Projects staff and representatives of Wyckoff Gas Storage Company, LLC (Wyckoff) will conduct a site visit of the Wyckoff Gas Storage Project in Steuben County, New York.

All interested parties may attend. Those planning to attend must provide their own transportation. Interested parties can meet staff on April 15, in the parking lot at the Radisson Hotel, 125 Denison Parkway East, Corning, New York. Staff will start on April 15 at about 1 p.m. Also, Mr. Edmond Knolle of Wyckoff can be contacted at telephone No. (713) 961-3204.

For further information, please contact the Office of External Affairs at (202) 502-8004.

Magalie R. Salas,
Secretary.

[FR Doc. 03-7863 Filed 4-1-03; 8:45 am]

BILLING CODE 6717-01-P